DEPARTMENT OF HOUSING AND URBAN DEVELOPMENT

[Docket No. FR-5858-N-07]

Solicitation of Appointment Nominations to the Housing Counseling Federal Advisory Committee

AGENCY: Office of the Assistant Secretary for Housing—Federal Housing Commissioner, Department of Housing and Urban Development (HUD).

ACTION: Notice of Solicitation of Appointment Nominations.

SUMMARY: The Department of Housing and Urban Development (HUD) established the Housing Counseling Federal Advisory Committee (HCFAC) on April 14, 2015. This notice invites the public to nominate individuals to fill one vacancy representing the real estate industry for a three-year term.

DATES: Please submit nominations as soon as possible, but no later than June 21, 2017.

ADDRESSES: Nominations must be in writing and submitted via email to HCFAC.application@hud.gov. Individuals that do not have internet access may submit nominations to Marjorie George, Housing Program Technical Specialist, U.S. Department of Housing and Urban Development, Office of Housing Counseling, Office of Outreach and Capacity Building, 200 Jefferson Avenue, Suite 300, Memphis, TN 38103.

FOR FURTHER INFORMATION CONTACT: Marjorie George, Housing Program Technical Specialist, Office of Housing Counseling, U.S. Department of Housing and Urban Development, 200 Jefferson Avenue, Suite 300, Memphis, TN 38103; telephone number (901) 544-4228 (this is not a toll-free number). Persons who have difficulty hearing or speaking may access this number via TTY by calling the toll-free Federal Relay Service at (800) 877-8339 (toll-free number). Individuals with questions may also email HCFAC.application@hud.gov and in the subject line write “HCFAC application question.”

SUPPLEMENTARY INFORMATION:

I. Background and Authority

The Housing Counseling Federal Advisory Committee (HCFAC) is congressionally mandated to provide advice to the Office of Housing Counseling (OHC) (Pub. L. 111-203). The HCFAC provides the OHC valuable advice regarding its mission to provide individuals and families with the knowledge they need to obtain, sustain, and improve their housing through a strong national network of HUD-approved housing counseling agencies and HUD-certified counselors. The HCFAC, however, has no role in reviewing or awarding of OHC housing counseling grants and procurement contracts. The HCFAC is subject to the requirements of the Federal Advisory Committee Act (5 U.S.C. Appendix), 41 CFR parts 101-6 and 102-3, and Presidential Memorandum “Final Guidance on Appointments of Lobbyists to Federal Boards and Commissions,” dated June 18, 2010, along with any relevant guidance published in the Federal Register or otherwise issued by the Office of Management and Budget (OMB).¹

¹ See 76 FR 61756 (“Final Guidance on Appointments of Lobbyists to Federal Boards and Commissions”); and 79 FR 47482 (“Revised Guidance on Appointment of Lobbyists to Federal Advisory Committees, Boards, and Commissions”); see also https://www.whitehouse.gov/the:press-office/presidential-memorandum-lobbyists-agency-boards-and-commissions (“Lobbyist on Agency Boards and Commissions”).

The HCFAC shall consist of not more than 12 individuals appointed by the Secretary. The membership will equally represent the mortgage industry, real estate industry, consumers, and HUD-approved housing counseling agencies. Each member shall be appointed in his or her individual capacity for a term of 3 years and may be reappointed at the discretion of the Secretary. Of the 12 members first appointed to the HCFAC in 2016, 4 were appointed for an initial term of 1 year, 4 were appointed for a term of 2 years, and 4 were appointed for a term of 3 years. The initial 12 appointments were made by the Secretary on June 1, 2016, and the one-year appointees terms will expire on May 31, 2017. This notice indicates the Secretary's decision to reappoint to new three-year terms the original appointees for consumer, mortgage, and housing counseling and to solicit applications to address a vacancy for real estate due to a withdrawal from consideration.

III. Nominations for the Housing Counseling Federal Advisory Committee

HUD is seeking nominations for an individual whose experience is representative of the real estate industry to fill one vacancy. Individuals may nominate themselves. Nominees must be U.S. citizens, and cannot be employees of the U.S. Government. All nominees will be serving in their “individual capacity” and not in a “representative capacity,” therefore, no Federally-registered lobbyists may serve on the HCFAC.² Individual capacity, as clarified by OMB, refers to individuals who are appointed to committees to exercise their own individual best judgment on behalf of the government, such as when they are designated as Special Government Employees as defined in 18 U.S.C. 202(a).

² See 79 FR 47482 (“Revised Guidance on Appointment of Lobbyists to Federal Advisory Committees, Boards, and Commissions”) (clarifying that federally registered lobbyists may not serve on advisory committee, board, or Commission in an “individual capacity.”).

Nominations to the HCFAC must be submitted via a form available on the Office of Housing Counseling's Web site federal advisory page at: https://www.hudexchange.info/programs/housing-counseling/federal-advisory-committee/. Each nominee will be required to include the following information:

• Name, title, and organization of the nominee and a description of how the applicant is representative of the real estate industry;

• Nominee's mailing address, email address, and telephone number;

• A statement summarizing the nominee's qualifications (including unique experiences, skills and knowledge the individual will bring to the HCFAC) and reasons why the nominee should be appointed to the HCFAC;

• A statement confirming that the nominee is not a registered federal lobbyist; and

• A statement agreeing to submit to any pre-appointment screenings HUD might require of Special Government Employees, as defined in 18 U.S.C. 202.

Nominations should be submitted via email to HCFAC.application@hud.gov. Individuals that do not have internet access may submit nominations to Marjorie George, Housing Program Technical Specialist, U.S. Department of Housing and Urban Development, Office of Housing Counseling, Office of Outreach and Capacity Building, 200 Jefferson Avenue, Suite 300, Memphis, TN 38103. All Nominations must be received no later than June 21, 2017.

HCFAC members will be required to adhere to the conflict of interest rules applicable to Special Government Employees as such employees are defined in 18 U.S.C. 202(a). The rules include relevant provisions in Title 18 of the U.S. Code related to criminal activity, Standards of Ethical Conduct for Employees of the Executive Branch (5 CFR part 2635) and Executive Order 12674 (as modified by Executive Order 12731). Therefore, applicants will be required to submit to pre-appointment screenings relating to identity of interest and financial interests that HUD might require as shown above. If selected, HCFAC members will also be asked to complete form OGE Form 450 (Confidential Financial Disclosure Report).

Members of the HCFAC shall serve without pay but shall receive travel expenses including per diem in lieu of subsistence as authorized by 5 U.S.C. 5703. Regular attendance is essential to the effective operation of the HCFAC.

Please note this Notice is not intended to be the exclusive method by which HUD will solicit nominations and expressions of interest to identify qualified candidates; however, all candidates for membership on the HCFAC will be subject to the same evaluation criteria.

III. Selection and Meetings

After all nominations, have been reviewed, HUD will publish a notice in the Federal Register announcing the appointment of the HCFAC member. Member selection will be made by the Secretary and will be based on the candidate's qualifications to contribute to the accomplishment of the HCFAC's objectives. HCFAC selection will be made based on factors such as expertise and diversity of viewpoints that are necessary to effectively address the matters before the HCFAC. Membership on the HCFAC is personal to the appointee and HCFAC members serve at the discretion of the Secretary.

The estimated number of meetings anticipated within a fiscal year is two. Additional meetings may be held as needed to render advice to the Deputy Assistant Secretary for the Office of Housing Counseling. All meetings will be announced by notice in the Federal Register. The meetings may use electronic communication technologies for attendance.

Dated: May 31, 2017.
Genger Charles,
General Deputy Assistant, Secretary for Housing.

[FR Doc. 2017-11706 Filed 6-5-17; 8:45 am]

BILLING CODE 4210-67-P